DEPARTMENT OF COMMERCE

International Trade Administration

[A-423-813]

Citric Acid and Certain Citrate Salts From Belgium: Preliminary Results of the Sunset Review of the Antidumping Duty Order

AGENCY: Enforcement and Compliance, International Trade Administration, Department of Commerce.

SUMMARY: On June 1, 2023, the U.S. Department of Commerce (Commerce) initiated a sunset review of the antidumping duty (AD) order on citric acid and certain citrate salts (citric acid) from Belgium pursuant to section 751(c) of the Tariff Act of 1930, as amended (the Act). Commerce determined that it was appropriate to conduct a full review. Commerce preliminarily finds that revocation of this AD order would be likely to lead to continuation or recurrence of dumping at the levels indicated in the “Preliminary Results of Review” section of this notice.

DATES: Applicable September 22, 2023.

FOR FURTHER INFORMATION CONTACT: Deborah Cohen, AD/CVD Operations, Office III, Enforcement and Compliance, International Trade Administration, U.S. Department of Commerce, 1401 Constitution Avenue NW, Washington, DC 20230; telephone: (202) 482-4521.

Background

On June 1, 2023, Commerce published the Initiation Notice of the sunset review of the Order ¹ in the Federal Register pursuant to section 751(c) of the Tariff Act of 1930, as amended (the Act).² In accordance with 19 CFR 351.218(d)(1)(i) and (ii), Commerce received notices of intent to participate in this sunset review from Archer Daniels Midland Company, Cargill, Incorporated, and Primary Products Ingredients Americas LLC (the domestic interested parties) within 15 days after the date of publication of the Initiation Notice.³ The domestic interested parties claimed interested party status under section 771(9)(C) of the Act as producers of a domestic like product in the United States.⁴

¹ See Citric Acid and Certain Citrate Salts from Belgium, Colombia and Thailand: Antidumping Duty Orders, 83 FR 35214 (July 25, 2018) (Order).

² See Initiation of Five-Year (Sunset) Reviews, 88 FR 35832 (June 1, 2023) (Initiation Notice).

³ See Domestic Interested Parties Letters, “Five Year (“Sunset”) Review of the Antidumping Duty Order on Citric Acid and Certain Citrate Salts from Belgium-Domestic Industry's Notice of Intent to Participate,” dated June 15, 2023.

⁴ Id.

On June 30, 2023, Commerce received a substantive response from the domestic interested parties within the 30-day deadline specified in 19 CFR 351.218(d)(3)(i).⁵ On July 3, 2023, Commerce received a substantive response from Citribel nv (Citribel) within the 30-day deadline specified in 19 CFR 351.218(d)(3)(i).⁶ Citribel claimed interested party status under section 771(9)(A) of the Act, as a foreign producer and foreign exporter of citric acid. On July 10, 2023, Commerce received rebuttal comments from the domestic interested parties within the deadline specified in 19 CFR 351.218(d)(4).⁷

⁵ See Domestic Interested Parties' Letter, “Domestic Interested Party's Substantive Response,” dated June 30, 2023 (Domestic Interested Parties' Substantive Response).

⁶ See Citribel's Letter, “Citribel N.V.'s Substantive Response,” dated July 3, 2023 (Citribel's Substantive Response).

⁷ See Domestic Interested Parties' Letter, “Domestic Industry's Rebuttal to Citribel N.V.'s Substantive Response,” dated July 10, 2023 (Domestic Interested Parties' Rebuttal).

On July 25, 2023, Commerce notified the U.S. International Trade Commission (ITC) that it received an adequate substantive response from the respondent interested party and that, in accordance with 19 CFR 351.218(e)(2), it would conduct a full sunset review of the Order.⁸ For further details, see the Preliminary Decision Memorandum.⁹

⁸ See Commerce's Letter, “Sunset Reviews Initiated on June 1, 2023,” dated July 25, 2023.

⁹ See Memorandum, “Preliminary Decision Memorandum for the Preliminary Results of Sunset Review of the Antidumping Duty Order on Citric Acid and Certain Citrate Salts from Belgium,” dated concurrently with, and hereby adopted by, this notice (Preliminary Decision Memorandum).

Scope of the Order

The merchandise covered by this Order includes all grades and granulation sizes of citric acid, sodium citrate, and potassium citrate in their unblended forms, whether dry or in solution, and regardless of packaging type. For a full description of the scope of the Order, see the Preliminary Decision Memorandum.

Analysis of Comments Received

All issues raised in this sunset review are addressed in the Preliminary Decision Memorandum, including the likelihood of continuation or recurrence of dumping and the magnitude of the margins of dumping likely to prevail if the Order is revoked.¹⁰ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹⁰ Id.

Preliminary Results of Sunset Review

Pursuant to sections 751(c)(1) and 752(c)(1) and (3) of the Act, Commerce determines that revocation of the Order would be likely to lead to continuation or recurrence of dumping at weighted-average dumping margins up to 19.30 percent.

Public Comment

Interested parties may submit case briefs no later than 30 days after the date of publication of the preliminary results of this full sunset review, in accordance with 19 CFR 351.309(c)(1)(i). Rebuttal briefs, limited to issues raised in the case briefs, may be filed no later than seven days after the date for filing case briefs.¹¹ Parties who submit case or rebuttal briefs in this proceeding are requested to submit with each argument: (1) a statement of the issue, (2) a brief summary of the argument, and (3) a table of authorities.¹² Executive summaries should be limited to five pages total, including footnotes. Case and rebuttal briefs should be filed using ACCESS. Note that Commerce has temporarily modified certain portions of its requirements for serving documents containing business proprietary information, until further notice.¹³ Pursuant to 19 CFR 351.310(c), interested parties who wish to request a hearing must submit a written request to the Assistant Secretary for Enforcement and Compliance, filed electronically via ACCESS. An electronically-filed request must be received successfully in its entirely by 5:00 p.m. Eastern Time within 30 days of the date of publication of this notice in the Federal Register.¹⁴ Requests should contain: (1) the party's name, address, and telephone number; (2) the number of participants; and (3) a list of the issues to be discussed. If a request for a hearing is made, Commerce intends to hold the hearing at a time and date to be determined.¹⁵ Parties should confirm the date, time, and location of the hearing by telephone two days before the scheduled date.

¹¹ See 19 CFR 351.309(d); see also Temporary Rule Modifying AD/CVD Service Requirements Due to COVID-19; Extension of Effective Period, 85 FR 41363 (July 10, 2020) (Temporary Rule).

¹² See 19 CFR 351.309(c)(2) and (d)(2); see also 19 CFR 351.303 (for general filing requirements).

¹³ See Temporary Rule.

¹⁴ See 19 CFR 351.310(c).

¹⁵ See 19 CFR 351.310(d).

In accordance with section 751(c)(5)(A) of the Act and 19 CFR 351.218(f)(3), Commerce intends to issue the final results of this sunset review, including the results of our analysis of the issues raised in any the written briefs, no later than 240 days after the date of publication of the notice of initiation (i.e., no later than January 29, 2024), unless otherwise extended an additional 90 days pursuant to section 751(c)(5)(B) of the Act and 19 CFR 351.218(f)(3)(ii).

This five-year sunset review and notice are in accordance with sections 751(c), 752(c), and 777(i)(1) of the Act and 19 CFR 351.218(f)(1).

Dated: September 15, 2023.
Lisa W. Wang,
Assistant Secretary for Enforcement and Compliance.

Appendix

List of Topics Discussed in the Preliminary Decision Memorandum

I. Summary

II. Background

III. Scope of the Order

IV. History of the Order

V. Legal Framework

VI. Discussion of the Issues

1. Likelihood of Continuation or Recurrence of Dumping

2. Magnitude of Margin of Dumping Likely To Prevail

VII. Recommendation

[FR Doc. 2023-20589 Filed 9-21-23; 8:45 am]

BILLING CODE 3510-DS-P